DEPARTMENT OF COMMERCE

International Trade Administration

[Application No. 88-12A-16]

Export Trade Certificate of Review

ACTION: Notice of Issuance of an amended Export Trade Certificate of Review to Wood Machinery Manufacturers of America (“WMMA”) (Application #88-12A-16).

SUMMARY: The U.S. Department of Commerce issued an amended Export Trade Certificate of Review to Wood Machinery Manufacturers of America on August 16, 2010. The Certificate has been amended eleven times. The previous amendment was issued to WMMA on July 9, 2008, and a notice of its issuance was published in the Federal Register on January 11, 2010 (75 FR 1335). The original Export Trade Certificate of Review No. 88-00016 was issued on February 3, 1989, and published in the Federal Register on February 9, 1989 (54 FR 6312).

FOR FURTHER INFORMATION CONTACT: Joseph E. Flynn, Director, Office of Competition and Economic Analysis, International Trade Administration, by telephone at (202) 482-5131 (this is not a toll-free number) or e-mail at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2010).

The Office of Competition and Economic Analysis (“OCEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

WMMA's Export Trade Certificate of Review has been amended to:

1. Add the following new Members of the Certificate within the meaning of section 325.2(1) of the Regulations (15 CFR 325.2(1)): Precision Drive Systems LLC, Vortex Tool Company, Inc., and Williams & Hussey Machine Co., Inc; and

2. Delete the following Member from WMMA's Certificate: CTD Machines, Inc.

The effective date of the amended certificate is April 26, 2010, the date on which WMMA's application to amend was deemed submitted. A copy of the amended certificate will be kept in the International Trade Administration's Freedom of Information Records Inspection Facility, Room 4001, U.S. Department of Commerce, 14th Street and Constitution Avenue, NW., Washington, DC 20230.

Dated: Augsut 17, 2010.
Joseph E. Flynn,
Director, Office of Competition and Economic Analysis.

[FR Doc. 2010-20738 Filed 8-19-10; 8:45 am]

BILLING CODE 3510-DR-P